DEPARTMENT OF EDUCATION

Applications for New Awards; State Personnel Development Grants (SPDG) Program

AGENCY: Office of Special Education and Rehabilitative Services, Department of Education.

ACTION: Applications for New Awards; extension of the application period.

SUMMARY: On December 15, 2014, we published in the Federal Register a notice inviting applications for new awards under the SPDG competition. That notice established a January 29, 2015, deadline for the submission of applications, and a deadline of March 30, 2015, for intergovernmental review. We are extending both deadlines by fifteen (15) days.

Catalog of Federal Domestic Assistance (CFDA) Number:

84.323A.

Dates:

Applications Available: December 15, 2014.

Deadline for Transmittal of Applications: February 13, 2015.

Deadline for Intergovernmental Review: April 14, 2015.

FOR FURTHER INFORMATION CONTACT: Jennifer Coffey, U.S. Department of Education, Office of Special Education Programs, 400 Maryland Avenue SW., Room 4097, Potomac Center Plaza, Washington, DC 20202-2600. Telephone: (202) 245-6673 or by email: jennifer.coffey@ed.gov.

SUPPLEMENTARY INFORMATION: On December 15, 2015, the Secretary invited applications for new awards for fiscal year (FY) 2015 under the SPDG competition (79 FR 74071). The purpose of this program, authorized by the Individuals with Disabilities Education Act (IDEA), is to assist State educational agencies (SEAs) in reforming and improving their systems for personnel preparation and professional development in early intervention, educational, and transition services in order to improve results for children with disabilities.

The notice inviting applications established a January 29, 2015, deadline for the submission of applications. To ensure that all interested parties are provided a minimum of 60 days to submit their applications, we are extending the application period for fifteen (15) days to February 13, 2015. Consequently, we are also extending the deadline for intergovernmental review to April 14, 2015. All other information in the December 15, 2014, notice, including the two absolute priorities, remains the same.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at this site.

You may also access documents of the Department published in the Federal Register by using the article search feature at: www.federalregister.gov. Specifically, through the advanced search feature at this site, you can limit your search to documents published by the Department.

Dated: January 12, 2015.
Michael K. Yudin,
Acting Assistant Secretary for Special Education and Rehabilitative Services.

[FR Doc. 2015-00605 Filed 1-15-15; 8:45 am]

BILLING CODE 4000-01-P